ENVIRONMENTAL PROTECTION AGENCY

[FRL-9481-2]

Proposed Cercla Administrative Cost Recovery Settlement; ACM Smelter and Refinery Site, Located in Cascade County, MT

AGENCY: Environmental Protection Agency (EPA).

ACTION: Notice; request for public comment.

SUMMARY: In accordance with section 122(i) of the Comprehensive Environmental Response, Compensation, and Liability Act, as amended (CERCLA), 42 U.S.C. 9622(i), notice is hereby given of a proposed administrative settlement for recovery of past and projected future response costs concerning the ACM Smelter and Refinery NPL Site (Site), Operable Unit 1, located near Great Falls, in Cascade County, Montana, with the following settling parties: Atlantic Richfield Company and ARCO Environmental Remediation, L.L.C. The settlement requires the settling parties to perform a remedial investigation and feasibility study in portions of Operable Unit 1 of the Site, and to pay $1,050,000.00 to the Hazardous Substance Superfund for past response costs, as well as future response costs under the settlement. The settlement includes a covenant not to sue the settling parties pursuant to sections 106 and 107(a) of CERCLA, 42 U.S.C. 9606 and 9607(a). For thirty (30) days following the date of publication of this document, the Agency will receive written comments relating to the settlement. The Agency will consider all comments received and may modify or withdraw its consent to the settlement if comments received disclose facts or considerations which indicate that the settlement is inappropriate, improper, or inadequate. The Agency's response to any comments received will be available for public inspection at the Black Eagle Community Center, in the Black Eagle community, Cascade County, Montana, and at the EPA Region 8 Records Center located on the second floor at 1595 Wynkoop Street, Denver, Colorado 80202 during normal business hours.

DATES: Comments must be submitted on or before November 18, 2011.

ADDRESSES: The proposed settlement is available for public inspection at the EPA Region 8 Records Center located on the second floor at 1595 Wynkoop Street, in Denver, Colorado, during normal business hours. A copy of the proposed settlement may be obtained from David Sturn, Technical Enforcement Program, EPA Region 8, Montana Office (8MO), Federal Building, 10 West 15th Street, Suite 3200, Helena, MT 59626. Mr. Sturn can be reached at (406) 457-5027. Comments should reference the ACM Smelter and Refinery NPL Site, the EPA Docket No. CERCLA-08-2011-0017, and should be addressed to Mr. Sturn at the address given above.

FOR FURTHER INFORMATION CONTACT: David Sturn, Technical Enforcement Program, U.S. EPA Region 8, Montana Office (8MO), Federal Building, 10 West 15th Street, Suite 3200, Helena, MT 59626. Telephone: (406) 457-5027.

Dated: October 7, 2011.
Art Palomares,
Acting Assistant Regional Administrator, Office of Enforcement, Compliance and Environmental Justice, U.S. Environmental Protection Agency, Region 8.

[FR Doc. 2011-27051 Filed 10-18-11; 8:45 am]

BILLING CODE 6560-50-P